NATIONAL SCIENCE FOUNDATION

Advisory Committee for Education and Human Resources; Notice of Meeting

In accordance with the Federal Advisory Committee Act (Public Law 92-463, as amended), the National Science Foundation announces the following meeting:

Name: Advisory Committee for Education and Human Resources (#1119).

Date/Time:

May 9, 2012; 8:30 a.m. to 5 p.m.

May 10, 2012; 8:30 a.m. to 1 p.m.

Place: NSF Headquarters, Room 375, 4201 Wilson Boulevard, Arlington, VA 22230.

Type of Meeting: Open.

Contact Person: YeVonda McIlwaine, National Science Foundation, 4201 Wilson Boulevard, Arlington, VA 22230 (703) 292-8600, ymcilwai@nsf.gov.

Purpose of Meeting: To provide advice with respect to the Foundation's science, technology, engineering, and mathematics (STEM) education and human resources programming.

Agenda

May 9, 2012

Morning Refreshments/Introductions, 2013 Budget and Planning, EHR's R&D Core Launch, E2 Joint Committee with MPS, Moving Forward—New Direction, Committee Business with Director and Deputy Director, Reception

May 10, 2012

STEM Education: A Matter of Priority, Program Review, Discussion with Director.

Dated: April 17, 2012.
Susanne Bolton,
Committee Management Officer.

[FR Doc. 2012-9535 Filed 4-19-12; 8:45 am]

BILLING CODE 7555-01-P